DEPARTMENT OF JUSTICE

Notice of Lodging of Proposed Consent Decree Under the Comprehensive Environmental Response, Compensation and Liability Act

On May 23, 2013, the Department of Justice lodged a proposed Consent Decree (“Decree”) with the United States District Court for the Southern District of West Virginia in the action entitled United States v. Cooper Industries, LLC, Civil Action No. 1:13-cv-12064.

The Consent Decree is being filed simultaneously with a Complaint alleging claims against Defendant under the Comprehensive Environmental Response, Compensation, and Liability Act, 42 U.S.C. 9607(a), for costs of past response actions in connection with the release of hazardous substances at the Lin-Electric Superfund Site (the “Site”) in Bluefield, West Virginia. The Consent Decree requires Cooper Industries LLC to pay $340,000 in reimbursement of these response costs, which were incurred during an EPA removal action at the Site in 2008-2009.

The publication of this notice opens a period for public comment on the Decree. Comments should be addressed to the Assistant Attorney General, Environment and Natural Resources Division, and should refer to United States v. Cooper Industries LLC, D.J. Ref. No. 90-11-3-10604. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Consent Decree may be examined and downloaded at this Justice Department Web site: http://www.justice.gov/enrd/Consent_Decrees.htm. We will provide a paper copy of the Consent Decree upon written request and payment of reproduction costs. Please mail your request and payment to: Consent Decree Library, U.S. DOJ—ENRD, P.O. Box 7611, Washington, DC 20044-7611.

Please enclose a check or money order for $5.00 (25 cents per page reproduction cost) payable to the United States Treasury.

Robert Brook,
Assistant Section Chief, Environmental Enforcement Section, Environment and Natural Resources Division.

[FR Doc. 2013-13102 Filed 6-3-13; 8:45 am]

BILLING CODE 4410-15-P